DEPARTMENT OF COMMERCE

International Trade Administration

[A-533-820]

Certain Hot-Rolled Carbon Steel Flat Products From India: Final Results of Antidumping Duty Administrative Review

AGENCY: Import Administration, International Trade Administration, Department of Commerce.

SUMMARY: In response to requests from domestic interested parties,¹ the Department of Commerce (“the Department”) conducted an administrative review of the antidumping duty order on certain hot-rolled carbon steel flat products from India manufactured by Essar Steel Limited (“Essar”), Ispat Industries Limited (“Ispat”), JSW Steel Limited (“JSW”), and Tata Steel Limited (“Tata”). The period of review (“POR”) covers December 1, 2008, through November 30, 2009. We determine that Essar, Ispat, JSW, and Tata had no reviewable entries of subject merchandise during the POR.

¹ The domestic interested parties are United States Steel Corporation (“U.S. Steel”), Nucor Corporation (“Nucor”), and ArcelorMittal USA Inc.

DATES: Effective Date: July 19, 2011.

FOR FURTHER INFORMATION CONTACT: Christopher Hargett or James Terpstra, AD/CVD Operations Office 3, Import Administration, International Trade Administration, U.S. Department of Commerce, 14th Street and Constitution Avenue, NW., Washington, DC 20230; telephone: (202) 482-4161 and (202) 482-3965, respectively.

SUPPLEMENTARY INFORMATION:

Background

On January 13, 2011, the Department published in the Federal Register, the Preliminary Results ² of this review.

² See Certain Hot-Rolled Carbon Steel Flat Products From India: Notice of Preliminary Results of Antidumping Duty Administrative Review, 76 FR 2344 (January 13, 2011) (“Preliminary Results”).

On March 29, 2011, pursuant to the announcement in the Preliminary Results, the Department issued a supplemental questionnaire to Tata seeking clarifying information with respect to its exports.³ On April 6, 2011, Tata submitted its response to the Department's supplemental questionnaire.⁴

³ See Letter to Tata Steel Limited from the Department, regarding the 6th Administrative Review of Certain Hot-Rolled Carbon Steel Flat Products from India, dated March 29, 2011.

⁴ See Letter from Tata Steel Limited to the Department, regarding the Antidumping Duty Review of Certain Hot-Rolled Carbon Steel Flat Products from India: Response of Tata Steel to Supplemental Questions, dated April 6, 2011.

We received briefs from U.S. Steel and Nucor and a rebuttal brief from Tata.⁵ On May 17, the Department extended the deadline for the Final Results to July 12, 2011.⁶

⁵ See Letter from U.S. Steel to the Department, regarding Administrative Review of Certain Hot-Rolled Carbon Steel Flat Products from India, dated April 14, 2011; Letter from Nucor to the Department, regarding Certain Hot-Rolled Carbon Steel Flat Products from India: Case Brief, dated April 14, 2011; Letter from Tata to the Department, regarding Antidumping Duty Review of Certain Hot-Rolled Carbon Steel Flat Products from India: Reply Brief of Tata Steel Limited, dated April 19, 2011.

⁶ See Certain Hot-Rolled Carbon Steel Flat Products From India: Notice of Extension of Time Limit for the Final Results of Antidumping Duty Administrative Review, 76 FR 28419 (May 17, 2011).

Period of Review

The period covered by this review is December 1, 2008, through November 30, 2009.

Scope of the Order

The merchandise subject to the order is certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of the order.

Specifically included in the scope of the order are vacuum-degassed, fully stabilized (commonly referred to as interstitial-free (“IF”)) steels, high-strength low-alloy (“HSLA”) steels, and the substrate for motor lamination steels. IF steels are recognized as low-carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of the order, regardless of definitions in the Harmonized Tariff Schedule of the United States (“HTSUS”), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of the order unless otherwise excluded. The following products, by way of example, are outside or specifically excluded from the scope of the order:

• Alloy hot-rolled carbon steel products in which at least one of the chemical elements exceeds those listed above (including, e.g., American Society for Testing and Materials (“ASTM”) specifications A543, A387, A514, A517, A506).

• Society of Automotive Engineers (“SAE”)/American Iron & Steel Institute (“AISI”) grades of series 2300 and higher.

• Ball bearings steels, as defined in the HTSUS.

• Tool steels, as defined in the HTSUS.

• Silico-manganese (as defined in the HTSUS) or silicon electrical steel with a silicon level exceeding 2.25 percent.

• ASTM specifications A710 and A736.

• United States Steel (“USS”) Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to the order is currently classifiable in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel covered by the order, including: vacuum-degassed fully stabilized; high-strength low-alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the Department's written description of the merchandise subject to the order is dispositive.

Analysis of Comments Received

All issues raised in the case and rebuttal briefs by parties to this administrative review are addressed in the accompanying “Issues and Decisions Memorandum for the Final Results of 2008-2009 Administrative Review of the Antidumping Duty Order on Certain Hot-Rolled Carbon Steel Flat Products from India,” from Christian Marsh, Deputy Assistant Secretary for Antidumping and Countervailing Duty Operations, to Ronald K. Lorentzen, Deputy Assistant Secretary for Import Administration (July 12, 2011) (“Issues and Decision Memorandum”), which is hereby adopted by this notice. A list of the issues which parties have raised, and to which we have responded in the Issues and Decision Memorandum, is attached to this notice as an Appendix. The Issues and Decision Memorandum is on file in the Central Records Unit, room 7046 of the Department of Commerce main building. In addition, a complete version of the Issues and Decision Memorandum can be accessed directly on the Internet at http://ia.ita.doc.gov/frn. The paper copy and electronic version of the Issues and Decision Memorandum are identical in content.

Final Results of Review

We continue to determine that Essar, Ispat, JSW, and Tata had no reviewable entries of subject merchandise during the POR.

Assessment Rate

The Department intends to issue appropriate assessment instructions directly to U.S. Customs and Border Protection (“CBP”) 15 days after the publication of the final results of this review.

Since the implementation of the 1997 regulations, our practice concerning no-shipment respondents has been to rescind the administrative review if the respondent certifies that it had no shipments and we have confirmed through our examination of CBP data that there were no shipments of subject merchandise during the POR.⁷ As a result, in such circumstances, we normally instructed CBP to liquidate any entries from the no-shipment company at the deposit rate in effect on the date of entry.

⁷ See Antidumping Duties; Countervailing Duties, 62 FR 27296, 27393 (May 19, 1997).

In our May 6, 2003, “automatic assessment” clarification, we explained that, where respondents in an administrative review demonstrate that they had no knowledge of sales through resellers to the United States, we would instruct CBP to liquidate such entries at

the all-others rate applicable to the proceeding.⁸

⁸ See Antidumping and Countervailing Duty Proceedings: Assessment of Antidumping Duties, 68 FR 23954 (May 6, 2003).

Because “as entered” liquidation instructions do not alleviate the concerns which the May 2003 clarification was intended to address, we find it appropriate in this case to instruct CBP to liquidate any existing entries of merchandise produced by Essar, Ispat, JSW, or Tata and exported by other parties at the all-others rate.⁹

⁹ See, e.g., Magnesium Metal From the Russian Federation: Final Results of Antidumping Duty Administrative Review, 75 FR 56989, 56989-90 (September 17, 2010).

Cash Deposit Requirements

The following deposit rates will be effective upon publication of the final results of this administrative review for all shipments of hot-rolled carbon steel flat products from India entered, or withdrawn from warehouse, for consumption on or after the publication date of the final results of this administrative review, as provided by section 751(a)(2)(C) of the Tariff Act of 1930, as amended (“Act”): (1) For Essar, Ispat, JSW, Tata, and for previously reviewed or investigated companies not listed above, the cash deposit rate will continue to be the company-specific rate published for the most recent final results in which that manufacturer or exporter participated; (2) if the exporter is not a firm covered in these reviews, a prior review, or the original less-than-fair-value (“LTFV”) investigation, but the manufacturer is, the cash deposit rate will be the rate established for the most recent final results for the manufacturer of the merchandise; and (3) if neither the exporter nor the manufacturer is a firm covered in this or any previous review or the LTFV investigation conducted by the Department, the cash deposit rate will be 23.87 percent, the all-others rate established from the LTFV investigation.¹⁰ These cash deposit requirements, when imposed, shall remain in effect until further notice.

¹⁰ Certain Hot-Rolled Carbon Steel Flat Products From India: Final Results of Antidumping Duty Administrative Review, 69 FR 36060, 36362, n.2 (June 28, 2004).

Notification to Importers

This notice serves as a reminder to importers of their responsibility under 19 CFR 351.402(f)(2) to file a certificate regarding the reimbursement of antidumping and countervailing duties prior to liquidation of the relevant entries during this review period. Failure to comply with this requirement could result in the Secretary's presumption that reimbursement of antidumping and countervailing duties occurred and the subsequent assessment of double antidumping and countervailing duties.

Notification to Interested Parties

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i) of the Act.

Dated: July 12, 2011.
Christian Marsh,
Acting Deputy Assistant Secretary for Import Administration.

Appendix

Comment 1: Whether There is a Reviewable Entry

Comment 2: Application of Adverse Facts Available

Comment 3: Referral of this Matter to U.S. Customs and Border Protection

[FR Doc. 2011-18211 Filed 7-18-11; 8:45 am]

BILLING CODE 3510-DS-P